DEPARTMENT OF TRANSPORTATION

Federal Aviation Administration

14 CFR Part 39

[Docket No. 2001-NM-347-AD; Amendment 39-12528; AD 2001-24-11]

RIN 2120-AA64

Airworthiness Directives; Raytheon Model Beech 400, 400A, and 400T Series Airplanes, Model Mitsubishi MU-300 Airplanes, and Model Beech MU-300-10 Airplanes

AGENCY: Federal Aviation Administration, DOT.

ACTION: Final rule; request for comments.

SUMMARY: This amendment adopts a new airworthiness directive (AD) that is applicable to all Raytheon Model Beech 400, 400A, and 400T series airplanes, Model Mitsubishi MU-300 airplanes, and Model Beech MU-300-10 airplanes. This action requires revising the Emergency Procedures Section of the Airplane Flight Manual to ensure the flightcrew is advised of in-flight procedures in the event of loss of airspeed indication. Such loss of airspeed indication and the resulting adverse effects on certain connecting systems could result in reduced controllability of the airplane.

DATES: Effective December 11, 2001.

The incorporation by reference of certain publications listed in the regulations is approved by the Director of the Federal Register as of December 11, 2001.

Comments for inclusion in the Rules Docket must be received on or before February 4, 2002.

ADDRESSES: Submit comments in triplicate to the Federal Aviation Administration (FAA), Transport Airplane Directorate, ANM-114, Attention: Rules Docket No. 2001-NM-347-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2001-NM-347-AD” in the subject line and need not be submitted in triplicate. Comments sent via the Internet as attached electronic files must be formatted in Microsoft Word 97 for Windows or ASCII text.

The service information referenced in this AD may be obtained from Raytheon Aircraft Company, Department 62, P.O. Box 85, Wichita, Kansas 67201-0085. This information may be examined at the FAA, Transport Airplane Directorate, 1601 Lind Avenue, SW., Renton, Washington; or at the FAA, Wichita Aircraft Certification Office, 1801 Airport Road, Room 100, Mid-Continent Airport, Wichita, Kansas; or at the Office of the Federal Register, 800 North Capitol Street, NW., suite 700, Washington, DC.

FOR FURTHER INFORMATION CONTACT: Bennett Sorensen, Aerospace Engineer, Flight Test Branch, ACE-117W, FAA, Wichita Aircraft Certification Office, 1801 Airport Road, Room 100, Mid-Continent Airport, Wichita, Kansas 67209; telephone (316) 946-4165; fax (316) 946-4407.

SUPPLEMENTARY INFORMATION: The FAA has received several reports of loss of the pilot's and/or the co-pilot's Indicated Airspeed (IAS) display on certain Raytheon Model Beech 400A series airplanes. Such loss of IAS display may lead to loss of the altitude displays and up to 10 degrees of pitch error in the pilot's and/or co-pilot's attitude display. Loss of the Indicated Airspeed (IAS) display can also adversely affect the display for altitude and attitude (Attitude/Heading/Reference System (AHRS)), and can result in uncommanded autopilot or yaw damper disengagement. The reported incidents occurred between 38,000 and 41,000 feet of altitude while the airplanes were in cruise or during initial descent. In the reported incidents, the altitude indication returned to normal at an undetermined point in the descent, and the airplanes landed without further incident. Investigation of those reports indicates that the cause of the loss of airspeed indication display may be due to water freezing in the pitot systems.

Loss of airspeed indication and the resulting adverse effects on certain connecting systems could result in reduced controllability of the airplane.

Similar Models

The pitot systems installation on Raytheon Model Beech 400, and 400T series airplanes, Model Mitsubishi MU-300 airplanes, and Model Beech MU-300-10 airplanes are identical to those installed on the affected Model Beech 400A series airplanes. Therefore, all of these models may be subject to the same unsafe condition.

Explanation of Relevant Service Information

The FAA has reviewed and approved the following Raytheon Temporary Changes to the FAA-approved Airplane Flight Manual:

• Beechjet 400T Temporary Change, P/N 132-590002-5TC3, dated November 12, 2001;

• Beechjet 400T Temporary Change, P/N 134-590002-1TC3, dated November 12, 2001;

• Beechjet 400A Temporary Change, P/N 128-590001-91TC5, dated November 12, 2001;

• Beechjet 400A Temporary Change, P/N 128-590001-95TC5, dated November 12, 2001;

• Beechjet 400A Temporary Change, P/N 128-590001-107TC5, dated November 12, 2001;

• Beechjet 400A Temporary Change, P/N 128-590001-109TC5, dated November 12, 2001;

• Beechjet 400A Temporary Change, P/N 128-590001-167TC7, dated November 12, 2001;

• Beechjet 400A Temporary Change, P/N 128-590001-169TC3, dated November 12, 2001;

• Beechjet 400 Temporary Change, P/N 128-590001-13BTC1, dated November 12, 2001;

• Beechjet 400 Temporary Change P/N 128-590001-13BTC2, dated November 12, 2001;

• MU-300 Diamond I Temporary Change, P/N MR-0460TC1, dated November 12, 2001;

• MU-300 Diamond IA Temporary Change, P/N MR-0873TC1, dated November 12, 2001.

The documents specified above describe certain in-flight procedures in the event of loss of airspeed indication for the various models specified.

Explanation of the Requirements of the Rule

Since an unsafe condition has been identified that is likely to exist or develop on other airplanes of the same type design, this AD is being issued to ensure the flightcrew is advised of in-flight procedures in the event of loss of airspeed indication. Such loss of airspeed indication and the resulting adverse effects of certain connecting systems could result in reduced controllability of the airplane. This AD requires accomplishment of the actions specified in the Temporary AFM's described previously, or insertion of this AD into the Airplane Flight Manual (AFM).

Interim Action

This is considered to be interim action until final action is identified, at which time the FAA may consider further rulemaking.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2001-NM-347-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-24-11 Raytheon Aircraft Company (Formerly Beech): Amendment 39-12528. Docket 2001-NM-347-AD.

Applicability: All Model Beech 400, 400A, and 400T series airplanes, Model Mitsubishi MU-300 airplanes, and Model Beech MU-300-10 airplanes; certificated in any category.

Compliance: Required as indicated, unless accomplished previously.

To prevent reduced controllability of the airplane due to loss of airspeed indication by ensuring that the flightcrew is advised of in-flight procedures in the event of loss of airspeed indication, accomplish the following:

(a) Within five days after the effective date of this AD, revise the Emergency Procedures Section of the FAA-approved Airplane Flight Manual (AFM), as applicable, by inserting a copy of Raytheon Beechjet 400T Temporary Change, P/N 132-590002-5TC3, dated November 12, 2001; Beechjet 400T Temporary Change, P/N 134-590002-1TC3, dated November 12, 2001; Beechjet 400A Temporary Change, P/N 128-590001-91TC5, dated November 12, 2001; Beechjet 400A Temporary Change, P/N 128-590001-95TC5, dated November 12, 2001; Beechjet 400A Temporary Change, P/N 128-590001-107TC5, dated November 12, 2001; Beechjet 400A Temporary Change, P/N 128-590001-109TC5, dated November 12, 2001; Beechjet 400A Temporary Change, P/N 128-590001-167TC7, dated November 12, 2001; Beechjet 400A Temporary Change, P/N 128-590001-169TC3, dated November 12, 2001; Beechjet 400 Temporary Change, P/N 128-590001-13BTC1, dated November 12, 2001; Beechjet 400 Temporary Change P/N 128-590001-13BTC2, dated November 12, 2001; MU-300 Diamond I Temporary Change, P/N MR-0460TC1, dated November 12, 2001; or MU-300 Diamond IA Temporary Change, P/N MR-0873TC1, dated November 12, 2001; as applicable, into the AFM or by inserting a copy of this AD into the AFM to include the following procedures:

“Emergency Procedures (400 & MU-300)

Loss of Airspeed

Note: If the pilot's and/or copilot's airspeed(s) are noted to be decreasing toward zero, refer to the AOA indicator for airspeed control and land at the nearest suitable airport.

1. Autopilot—Disconnect

2. Airspeed—Slow to and Maintain 0.2 AOA

3. Thrust—As Required

4. Speed Brakes—As Required (Slow to 0.25 AOA with speed brakes extended)

Note: An AOA of 0.2 (0.25 with speed brakes extended) will yield an airspeed of about 210 knots. Use pitch attitude as the primary reference. Make small changes in pitch and wait for the AOA to stabilize.

When Ready for Descent

5. Seat Belts/Shoulder Harnesses—Fastened

6. Cabin Sign—As Required

7. Recognition Light—As Required

8. Anti/De-Ice Systems—As Required

Caution

If icing conditions are anticipated during the descent and approach, turn ice protection systems ON as early as possible prior to penetrating clouds. Maintain wing anti/deice operation light ON (approximately 70% N2) during descent to assure proper wing anti-ice operation.

9. Cabin Pressure Control—Set Field Elevation + 500 Feet

10. Windshield Defog—As Required

11. Altimeters—Set

When Ready for Approach

12. Airspeed—Slow to and Maintain 0.3 AOA

Note: Maintain 0.3 AOA throughout the configuration change to Flaps 10° Gear Down. This will yield an airspeed of about 180 knots.

13. Fuel Management—Check

14. N1, Landing Distance—Confirm

15. Cabin Sign—Safety

16. Windshield Anti-Ice—Low

17. Hydraulic/Nitrogen Pressure—Check

18. Engine Sync—Off

19. Flaps 10°

Before Landing

20. AOA Index—Preset 1.3 V/Vs

21. Landing Gear—Down

22. Airspeed—Slow to 0.4 AOA

23. Recognition Light—Off

24. Landing Lights—As Required

25. Ignitions—On

26. Flaps—30°

27. Approach Airspeed (VREF)—Slow to and Maintain 0.57 AOA

Note: This will yield a normal approach speed of VREF (0.57 AOA) and normal landing distances.

Balked Landing

28. Thrust—Takeoff N1

29. Pitch Attitude—10°

When Positive Climb Has Been Established

30. Flaps—10°

31. Landing Gear—Up

32. Airspeed—Accelerate to 0.3 AOA

33. Flaps—Up

34. Airspeed—Accelerate and Maintain 0.2 AOA

35. Landing Lights—Ret/off

Emergency Procedures (400A & RJ-61)

Loss of Airspeed

Note: If the pilot's, or copilot's and standby, or all three airspeed(s) are noted to be decreasing toward zero, refer to the standby attitude indicator, standby altimeter, standby heading and the AOA indicator for aircraft control and land at the nearest suitable airport. On PFD equipped airplanes, the pilot's and copilots altimeters, attitude displays and heading displays may be unreliable and the autopilot may disconnect. This may be accompanied by amber boxed A/S, ALT, ATT and/or HDG comparator flags. The comparator flags may be followed by red FAIL flags and removal of airspeed and altitude tapes and attitude/heading displays.

1. Autopilot—Disconnect

2. Airspeed—Slow to and Maintain 0.2 AOA

3. Thrust—As Required

4. Speed Brakes—As Required (Slow to 0.25 AOA with speed brakes extended)

Note: An AOA of 0.2 (0.25 speed brakes extended) will yield an airspeed of about 210 knots. Use pitch attitude as primary reference. Make small changes in pitch attitude and wait for AOA to stabilize.

When Ready for Descent

5. Seat Belts/Shoulder Harnesses—Fastened

6. Cabin Sign—As Required

7. Recognition Light—As Required

8. Anti/De-Ice Systems—As Required

Caution

If icing conditions are anticipated during the descent and approach, turn ice protection systems ON as early as possible prior to penetrating clouds. Maintain wing anti/deice operation light ON (approximately 70% N2) during descent to assure proper wing anti-ice operation.

9. Cabin Pressure Control—Set Field Elevation + 500 Feet

10. Windshield Defog—As Required

11. Altimeters—Set

When Ready for Approach

12. Airspeed—Slow to and Maintain 0.3 AOA

Note: Maintain 0.3 AOA throughout the configuration change to Flaps 10°, Gear Down. This will yield an airspeed of about 180 knots.

13. Fuel Management—Check

14. N1, Landing Distance—Confirm

15. Cabin Sign—Safety

16. Windshield Anti-Ice—Low

17. Hydraulic/Nitrogen Pressure—Check

18. Engine Sync—Off

19. Flaps—10°

Before Landing

20. AOA Index—Preset 1.3 V/Vs

21. Landing Gear—Down

22. Airspeed—Slow to 0.4 AOA

23. Recognition Light—Off

24. Landing Lights—As Required

25. Ignitions—On

26. Flaps—30°

27. Approach Airspeed (VREF) Slow to and Maintain 0.57 AOA

Note: This will yield a normal approach speed of VREF (0.57 AOA) and normal landing distances.

28. Yaw Damp—Off

Balked Landing

29. Thrust—Takeoff N1

30. Pitch Attitude 10°

When Positive Climb Has Been Established

31. Flaps—10°

32. Landing Gear—Up

33. Yaw Damp—On

34. Airspeed—Accelerate to 0.3 AOA

35. Flaps—Up

36. Airspeed—Accelerate and Maintain 0.2 AOA

37. Landing Lights—Ret/off

Emergency Procedures 400T(T-1A)

Loss of Airspeed

Note: If the pilot's, or copilot's and standby, or all three airspeed(s) are noted to be decreasing toward zero, refer to the standby attitude indicator, standby altimeter, standby heading and the AOA indicator for aircraft control and land at the nearest suitable airport. The pilot's and copilots altimeter's, attitude displays and heading displays may be unreliable and the autopilot may disconnect. This may be accompanied by amber boxed A/S, ALT, ATT and/or HDG comparator flags. The comparator flags may be followed by red FAIL flags on the airspeed, altitude, attitude and heading displays.

1. Autopilot—Disconnect

2. Airspeed—Slow to and Maintain 0.2 AOA

3. Thrust—As Required

4. Speed Brakes—As Required (Slow to 0.25 AOA with speed brakes extended)

Note: An AOA of 0.2 (0.25 speed brakes extended) will yield an airspeed of about 210 knots. Use pitch attitude as primary reference. Make small changes in pitch attitude and wait for AOA to stabilize.

When Ready for Descent

5. Seat Belts/Shoulder Harnesses—Fastened

6. Cabin Sign—AS Required

7. Anti/De-Ice Systems—As Required

Caution

If icing conditions are anticipated during the descent and approach, turn ice protection systems ON as early as possible prior to penetrating clouds. Maintain wing anti/deice operation light ON (approximately 70% N2) during descent to assure proper wing anti-ice operation.

8. Cabin Pressure Control—Set Field Elevation + 500 Feet

9. Windshield Defog—As Required

10. Altimeters—Set

When Ready for Approach

11. Airspeed—Slow to and Maintain 0.3 AOA

Note: Maintain 0.3 AOA throughout the configuration change to Flaps 10°, Gear Down. This will yield an airspeed of about 180 knots.

12. Fuel Management—Check

13. N1, Landing Distance—Confirm

14. Cabin Sign—Safety

15. Windshield Anti-Ice—Low

16. Hydraulic/Nitrogen Pressure—Check

17. Engine Sync—Off

18. Flaps—10°

19. GPWS TAC and FLP ORIDE—Off

Before Landing

20. AOA Index—Preset 1.3 V/Vs

21. Landing Gear—Down

22. Airspeed—Slow to 0.4 AOA

23. Landing Lights—As Required

24. Ignitions—On

25. Flaps—Set for Landing

26. Approach Airspeed (VREF)—Slow to and Maintain 0.57 AOA

Note: This will yield an approach speed of VREF (0.57 AOA) and normal landing distances.

27. Yaw Damp—Off

Caution

If icing conditions are encountered during flight, the maximum landing flap is 10° unless one of the following are met.

The icing conditions are encountered for less than 10 minutes, and the RAM Air Temperature (RAT) during the encounter was warmer than −8°C.

A RAT of +10°C, or warmer, is observed during the descent, approach or landing.

If either of the above two conditions are met, Flaps 30° may be used for landing.

Balked Landing

28. Thrust—Takeoff N1

29. Pitch Attitude—10°

When Positive Climb Has Been Established

30. Flaps—10°

31. Landing Gear—Up

32. Yaw Damp—On

33. Airspeed—Accelerate to 0.3 AOA

34. Flaps—Up

35. Airspeed—Accelerate and Maintain 0.2 AOA

36. Landing Lights—Ret/off

Emergency Procedures 400T(TX)

Loss of Airspeed

Note: If the pilot's, or copilot's and standby, or all three airspeed(s) are noted to be decreasing toward zero, refer to the standby attitude indicator, standby altimeter, standby heading and the AOA indicator for aircraft control and land at the nearest suitable airport. The pilot's and copilots altimeter's, attitude displays and heading displays may be unreliable and the autopilot may disconnect. This may be accompanied by amber boxed A/S, ALT, ATT and/or HDG comparator flags. The comparator flags may be followed by red FAIL flags on the airspeed, altitude, attitude and heading displays.

1. Autopilot—Disconnect

2. Airspeed—Slow to and Maintain 0.2 AOA

3. Thrust—As Required

4. Speed Brakes—As Required (Slow to 0.25 AOA with speed brakes extended)

Note: An AOA of 0.2 (0.25 speed brakes extended) will yield an airspeed of about 210 knots. Use pitch attitude as primary reference. Make small changes in pitch attitude and wait for AOA to stabilize.

When Ready for Descent

5. Seat Belts/Shoulder Harnesses—Fastened

6. Cabin Sign—As Required

7. Anti/DeIce Systems—As Required

Caution

If icing conditions are anticipated during the descent and approach, turn ice protection systems ON as early as possible prior to penetrating clouds. Maintain wing anti/deice operation light ON (approximately 70% N2) during descent to assure proper wing anti-ice operation.

8. Cabin Pressure Control—Set Field Elevation + 500 Feet

9. Windshield Defog—As Required

10. Altimeters—Set

When Ready for Approach

11. Airspeed—Slow to and Maintain 0.3 AOA

Note: Maintain 0.3 AOA throughout the configuration change to Flaps—10°, Gear Down. This will yield an airspeed of about 180 knots.

12. Fuel Management—Check

13. N1, Landing Distance—Confirm

14. Cabin Sign—Safety

15. Windshield Anti-Ice—Low

16. Hydraulic/Nitrogen Pressure—Check

17. Engine Sync—Off

18. Flaps—10°

Before Landing

19. AOA Index—Preset 1.3 V/Vs

20. Landing Gear—Down

21. Airspeed—Slow to 0.4 AOA

22. Landing Lights—As Required

23. Ignitions—On

24. Flaps—30°

25. Approach Airspeed (VREF)—Slow to and Maintain 0.57 AOA

Note: This will yield a normal approach speed of VREF (0.57 AOA) and normal landing distances.

26. Yaw Damp—Off

Balked Landing

26. Thrust—Takeoff N1

27. Pitch Attitude 10°

When Positive Climb Has Been Established

29. Flaps 10°

30. Landing Gear—Up

31. Yaw Damp—On

32. Airspeed—Accelerate to 0.3 AOA

33. Flaps— 0°

34. Airspeed—Accelerate and Maintain 0.2 AOA

35. Landing Lights—Ret/off”

Note 1: When a previously specified Temporary AFM revision has been incorporated into the general revisions of the AFM, the general revision may be inserted in the AFM, provided the information contained in the general revision is identical to that specified in the specified Temporary AFM revision.

Alternative Methods of Compliance

(b) An alternative method of compliance or adjustment of the compliance time that provides an acceptable level of safety may be used if approved by the Manager, Wichita Aircraft Certification Office (ACO), FAA. Operators shall submit their requests through an appropriate FAA Principal Maintenance Inspector, who may add comments and then send it to the Manager, Wichita ACO.

Note 2: Information concerning the existence of approved alternative methods of compliance with this AD, if any, may be obtained from the Wichita ACO.

Special Flight Permits

(c) Special flight permits may be issued in accordance with sections 21.197 and 21.199 of the Federal Aviation Regulations (14 CFR 21.197 and 21.199) to operate the airplane to a location where the requirements of this AD can be accomplished.

Incorporation by Reference

(d) Except as provided by paragraph (a) of this AD, the AFM revision shall be done in accordance with Raytheon Beechjet 400T Temporary Change, P/N 132-590002-5TC3, dated November 12, 2001; Beechjet 400T Temporary Change, P/N 134-590002-1TC3, dated November 12, 2001; Beechjet 400A Temporary Change, P/N 128-590001-91TC5, dated November 12, 2001; Beechjet 400A Temporary Change, P/N 128-590001-95TC5, dated November 12, 2001; Beechjet 400A Temporary Change, P/N 128-590001-107TC5, dated November 12, 2001; Beechjet 400A Temporary Change, P/N 128-590001-109TC5, dated November 12, 2001; Beechjet 400A Temporary Change, P/N 128-590001-167TC7, dated November 12, 2001; Beechjet 400A Temporary Change, P/N 128-590001-169TC3, dated November 12, 2001; Beechjet 400 Temporary Change, P/N 128-590001-13BTC1, dated November 12, 2001; Beechjet 400 Temporary Change P/N 128-590001-13BTC2, dated November 12, 2001; MU-300 Diamond I Temporary Change, P/N MR-0460TC1, dated November 12, 2001; or MU-300 Diamond IA Temporary Change, P/N MR-0873TC1, dated November 12, 2001; as applicable. This incorporation by reference was approved by the Director of the Federal Register in accordance with 5 U.S.C. 552(a) and 1 CFR part 51. Copies may be obtained from Raytheon Aircraft Company, Department 62, P.O. Box 85, Wichita, Kansas 67201-0085. Copies may be inspected at the FAA, Transport Airplane Directorate, 1601 Lind Avenue, SW., Renton, Washington; or at the FAA, Wichita Aircraft Certification Office, 1801 Airport Road, Room 100, Mid-Continent Airport, Wichita, Kansas; or at the Office of the Federal Register, 800 North Capitol Street, NW., suite 700, Washington, DC.

Effective Date

(e) This amendment becomes effective on December 11, 2001.

Issued in Renton, Washington, on November 26, 2001.
Kalene C. Yanamura,
Acting Manager, Transport Airplane Directorate, Aircraft Certification Service.

[FR Doc. 01-30083 Filed 12-5-01; 8:45 am]

BILLING CODE 4910-13-U